DEPARTMENT OF HEALTH AND HUMAN SERVICES

National Institutes of Health

Proposed Collection; Comment Request; Graduate Student Training Programs Application

SUMMARY: In compliance with the requirement of section 3506(c)(2)(A) of the Paperwork Reduction Act of 1995, for opportunity for public comment on proposed data collection projects, the Graduate Partnerships Program/OIR/OD, the National Institutes of Health (NIH) will publish periodic summaries of proposed projects to be submitted to the Office of Management and Budget (OMB) for review and approval.

Proposed Collection: Title: Graduate Student Training Programs Application. Type of Information Collection Request: Extension. Form Number: 0925-0501. Expiration Date: June 30, 2005. Need and Use of Information Collection: The information gathered in the Graduate Student Training Programs application will enable the identification and evaluation of graduate students interested in performing their dissertation research in the NIH Intramural Research Program laboratories (NIH-IRP). Modeling university applications for admission into graduate programs, the Graduate Student Training Program application contains several sections that will aid the NIH admission committee's identification and evaluation of each graduate student. Specific areas required to evaluate a candidate include the following: contact information, citizenship status, identification of programs to which the student wishes to apply, students' graduate university information and undergraduate university information, standardized examination scores, references and letters of recommendation, proposed NIH advisor information, University advisor information, research interests, career goals, and proposed research in NIH IRP. Ethnicity and gender are additional optional information used to evaluate the GPP recruiting abilities and compliance with federal regulations. Frequency of Response: Once. Affected Public: Individuals. Type of Respondents: Students pursuing an advanced degree, Ph.D., and would like to perform their dissertation research in the NIH Intramural Research Program laboratories.

The annual reporting burden is displayed in the following table:

Estimates of Hour Burden
Type of respondents | Estimated number of respondents | Estimated number of responses per respondent | Average burden hours per response | Estimated total annual burden hours requested
Student Application to Current Graduate Student Programs | 200 | 1 | 0.50 | 100
Student Application to Future Graduate Student Programs | 400 | 1 | 0.50 | 200
Recommendations (600 × 3) | 1800 | 1 | 0.25 | 450
Totals | 2400 |  |  | 750

Estimate of Capital Costs, Operating Costs, and/or Maintenance Costs are displayed in the following table:

Estimate of Annual Cost to the Federal Government
Annualized capital, start-up cost | Amount (dollars) | Operational/maintenance & purchase components | Amount (dollars)
Information Collection | 0.00 | Trouble-shooting and monitoring fees | 2,000.00
Aplication Design, Development, Testing | 12,000.00 | Maintenance | 1,000.00
Total | 12,000.00 | Total | $3,000.00

Estimate of Other Total Annual Cost Burden: $15,000.00.

Request for Comments: Written comments and/or suggestions from the public and affected agencies should address one or more of the following points: (1) Evaluate whether the proposed collection of information is necessary for the proper performance of the function of the agency, including whether the information will have practical utility; (2) evaluate the accuracy of the agency's estimate of the burden of the proposed collection of information, including the validity of the methodology and assumptions used; (3) enhance the quality, utility, and clarity of the information to be collected; and (4) minimize the burden of the collection of information on those who are to respond, including the use of appropriate automated, electronic, mechanical, or other technological collection techniques or other forms of information technology.

FOR FURTHER INFORMATION CONTACT: To request more information on the proposed project or to obtain a copy of the data collection plans and instruments, contact: Dr. Patty McCarthy, Program Coordinator, Graduate Partnerships Program, National Institutes of Health, 10 Center Drive, Building 10/Room 1C129, Bethesda, Maryland 20892-1153, or call 301-594-9603 or e-mail your request, including your address to: mccarthy@od.nih.gov.

Comments Due Date: Comments regarding this information collection are best assured of having their full effect if received within 60-days of the date of this publication.

Dated: April 24, 2004.
Michael M. Gottesman,
Deputy Director for Intramural Research, National Institutes of Health.

[FR Doc. 04-10147 Filed 5-4-04; 8:45 am]

BILLING CODE 4140-01-M